DEPARTMENT OF TRANSPORTATION

National Highway Traffic Safety Administration

49 CFR Parts 531, 533, 536, and 537

[NHTSA-2021-0053, NHTSA-2021-0054]

RIN 2127-AM34

Public Hearing for Corporate Average Fuel Economy Standards for Model Years 2024-2026 Passenger Cars and Light Trucks

AGENCY: National Highway Traffic Safety Administration (NHTSA), Department of Transportation (DOT).

ACTION: Notification of public hearing.

SUMMARY: The National Highway Traffic Safety Administration (NHTSA) is announcing a virtual public hearing to be held October 13, 2021, on its proposal for the “Corporate Average Fuel Economy Standards for Model Years 2024-2026 Passenger Cars and Light Trucks,” which was signed on August 5, 2021, and published in the Federal Register on September 3, 2021. This hearing also allows the public to provide oral comments regarding the Draft Supplemental Environmental Impact Statement that accompanies the proposal. An additional session will be held on October 14, if necessary, to accommodate the number of people who sign up to provide oral comments. NHTSA is proposing to revise the corporate average fuel economy (CAFE) standards for passenger cars and light trucks for model years 2024 through 2026 to make the standards more stringent.

DATES: NHTSA will hold a virtual public hearing on October 13, 2021. An additional session will be held on October 14, if necessary, to accommodate the number of people who sign up to testify. Please refer to the SUPPLEMENTARY INFORMATION section for additional information on the public hearing.

ADDRESSES: The public hearing will be held virtually on October 13, 2021. An additional session will be held on October 14, if necessary, to accommodate the number of people who sign up to testify. The hearing will convene at 9:30 a.m. Eastern time and will conclude when the last pre-registered speaker has testified but no later than 8:00 p.m. Eastern time. All hearing attendees, including those who do not intend to provide testimony, should preregister by October 7, 2021. The link to register will be available at https://www.nhtsa.gov/cafe. Additional information regarding the hearing appears below under SUPPLEMENTARY INFORMATION.

FOR FURTHER INFORMATION CONTACT: To register to attend the hearing, please contact NHTSA's Office of Communications at NHTSA.Communication@dot.gov. To speak to someone about the proposal, please contact Vinay Nagabhushana, Fuel Economy Division, Office of Rulemaking, NHTSA, at (202) 366-1452.

SUPPLEMENTARY INFORMATION: NHTSA is proposing to revise the corporate average fuel economy (CAFE) standards for passenger cars and light trucks built in model years 2024 through 2026 to make the standards more stringent. On January 20, 2021, President Biden issued Executive Order 13990, “Protecting Public Health and the Environment and Restoring Science to Tackle the Climate Crisis,” directing NHTSA to consider whether to propose suspending, revising, or rescinding the standards previously set forth under the “The Safer Affordable Fuel-Efficient (SAFE) Vehicles Rule for Model Years 2021-2026 Passenger Cars and Light Trucks,” promulgated in April 2020 (hereafter, “the 2020 final rule”). The 2020 final rule set standards that increased at a rate of 1.5 percent per year for this time period. Based on our updated assessment, NHTSA is proposing, under the Energy Policy and Conservation Act, as amended by the Energy Independence and Security Act, to revise the CAFE standards to be more stringent than the 2020 final rule standards in each model year for 2024 through 2026. In addition, NHTSA is also proposing certain technical amendments to clarify and streamline our compliance regulations. The proposed revised standards would conserve much more energy, save much more fuel, and thus save consumers money and improve our nation's energy security over time. The “Corporate Average Fuel Economy Standards for Model Years 2024-2026 Passenger Cars and Light Trucks” proposal was signed on August 5, 2021, and was published in the Federal Register on September 3, 2021 (86 FR 49602). The proposal and accompanying documents are available in Docket ID No. NHTSA-2021-0053. A notice of availability for the accompanying Draft Supplemental Environmental Impact Statement (Draft SEIS) was published in the Federal Register on August 20, 2021 (86 FR 46847). The Draft SEIS is available on NHTSA's CAFE website, https://www.nhtsa.gov/cafe, and is also available in Docket ID No. NHTSA-2021-0054. The public comment period for the proposed rule is scheduled to conclude on October 26, 2021.

Participation in Virtual Public Hearing

Please note that NHTSA is deviating from its typical approach for public hearings. Because of current CDC recommendations, as well as state and local orders for social distancing to limit the spread of COVID-19, NHTSA is not holding in-person public meetings at this time.

NHTSA will begin pre-registering speakers for the hearing upon publication of this document in the Federal Register. To register to speak at the virtual hearing, please follow the instructions below. The last day to pre-register to speak at the hearing will be October 7, 2021.

• To watch the hearing (without providing oral comments): Click the link at https://www.nhtsa.gov/cafe and register. Indicate NO on the registration page that you do not wish to provide testimony. Within 24 hours of registering, you will be emailed your link to join.

• To comment at the hearing: Click the link at https://www.nhtsa.gov/cafe and register by October 7. Indicate YES on the registration page that you would like to provide comments. Within 24 hours of registering, you will be emailed your link to join. Additionally, you will receive an email on October 11 with your approximate time to testify, and additional information about how to turn on your audio and camera to comment. We recommend you join via a computer, but if you are unable to do so, an option to join via phone will also be provided in that email.

If you do not receive your confirmation email(s), or have further questions about this hearing, please email NHTSA.Communication@dot.gov. NHTSA is committed to providing equal access to this event for all participants. Closed captioning will be available. People with disabilities who need additional accommodations should send a request to NHTSA.Communication@dot.gov no later than October 7.

Each commenter will have 3 minutes to provide oral testimony. NHTSA may ask clarifying questions during the oral presentations but will not respond to the presentations at that time. NHTSA recommends submitting the text of your oral comments as written comments to the rulemaking docket or to the Draft SEIS docket, as appropriate. Written statements and supporting information submitted during the comment period will be considered with the same weight as oral comments and supporting information presented at the public hearing. If identical comments are submitted by the same commenter more than once to the docket, NHTSA does not consider those comments to carry more weight than if they had been submitted only once. If the oral testimony is specifically intended to reference the Draft SEIS, please mention that in your opening remarks.

Please note that any updates made to any aspects of the hearing logistics, including any change to the date of the hearing or a potential additional session on October 14, 2021, will be posted on NHTSA's website, https://www.nhtsa.gov/cafe. While NHTSA expects the hearing to go forward as set forth above, please monitor our website or contact us via the email address listed in the FOR FURTHER INFORMATION CONTACT section to determine if there are any updates. NHTSA does not intend to publish a document in the Federal Register announcing updates. Finally, NHTSA will post a video of the hearing at http://www.nhtsa.gov/cafe and will make a transcript of the hearing available in the rulemaking docket as soon as practicable.

How can I get copies of the proposed action, the Draft Supplemental Environmental Impact Statement, and other related information?

NHTSA has established a docket for the proposal under Docket ID No. NHTSA-2021-0053 and a separate docket for the Draft SEIS at Docket ID No. NHTSA-2021-0054. Relevant documents and information can also be accessed at NHTSA's CAFE website, at https://www.nhtsa.gov/cafe. Please refer to the notice of proposed rulemaking for detailed information on accessing information related to the proposal and the Draft SEIS.

Issued on September 9, 2021, in Washington, DC, under authority delegated in 49 CFR 1.95.
Raymond R. Posten,
Associate Administrator for Rulemaking.

[FR Doc. 2021-19799 Filed 9-10-21; 11:15 am]

BILLING CODE 4910-59-P